DEPARTMENT OF LABOR

Employment and Training Administration

[TA-W-56,688]

Lands' End, a Subsidiary of Sears Roebuck and Company, Business Outfitters CAD Operations, Dodgeville, WI; Notice of Negative Determination on Reconsideration

On June 6, 2005, the Department issued an Affirmative Determination Regarding Application for Reconsideration for the workers and former workers of the subject firm. The notice was published in the Federal Register on June 20, 2005 (70 FR 35456).

The Department denied Trade Adjustment Assistance (TAA) and Alternative Trade Adjustment Assistance (ATAA) to workers of Lands' End, a Subsidiary of Sears Roebuck and Company, Business Outfitters CAD Operations, Dodgeville, Wisconsin, because the workers' separations were not due to a shift of production overseas or increased imports of articles, but due to the subject company's decision to move computer assisted design operations abroad. The subject worker group is engaged in computerizing embroidery and logo designs which are utilized by the production division of Lands' End, also located in Dodgeville, Wisconsin. Workers in the Business Outfitters CAD Operations are separately identifiable from those workers who produce embroidered goods (clothing, tote bags, etc.) at Lands' End, Dodgeville, Wisconsin.

In the request for reconsideration, the petitioners alleged that workers produce an article (digitized embroidery designs), that digitized embroidery design production shifted overseas, and that imports of digitized embroidery design increased.

During the reconsideration investigation, the Department contacted the petitioners and Lands' End officials to better understand the operations of the subject worker group and to obtain information which will enable the Department to address the petitioners' allegations.

According to the petitioners, the workers use a computer program to convert customers' logos from a two-dimensional form to one which is readable by the embroidery machines at the Dodgeville, Wisconsin facility. Petitioners also allege that foreign companies are digitizing the design work, using a remote file transfer protocol site and the Internet to receive the logos from Lands' End and to send digitized logos back to Lands' End. A company official confirmed that the electronic digitizing of embroidery logos shifted overseas and that sample stitching and the production of embroidered goods remain at the Dodgeville, Wisconsin facility.

Based on this information, the Department has determined that the subject workers do not produce an article. As such, the second and third allegations, the shift of digitized design production abroad and the increased imports of digitized designs, are rendered moot.

During the reconsideration investigation, the Department also inquired into Lands' End's reasons for shifting digitization of the designs abroad and was informed that the subject company wanted to utilize the time difference between the countries in order to more quickly satisfy customers' demands for embroidered goods. By doing so, the subject company can have logos digitized “overnight” and be ready to be used when the American production workers return to work the next day.

Conclusion

After review of the application and investigative findings, I conclude that there has been no error or misinterpretation of the law or of the facts which would justify reconsideration of the Department of Labor's prior decision. Accordingly, the application is denied.

Signed in Washington, DC, this 28th day of July 2005.
Elliott S. Kushner,
Certifying Officer, Division of Trade Adjustment Assistance.

[FR Doc. E5-4292 Filed 8-8-05; 8:45 am]

BILLING CODE 4510-30-P